DEPARTMENT OF DEFENSE

Office of the Secretary

Military Leadership Diversity Commission (MLDC); Meeting

AGENCY: Office of the Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Military Leadership Diversity Commission (MLDC) will meet from February 10-12, 2010. Subject to the availability of space, the February 11 and 12 meetings will be open to the public.

DATES: The meeting will be held:

7:30 p.m. to 8:30 p.m., February 10, 2010 Administrative Working Meeting;

8 a.m. to 5:30 p.m., February 11, 2010;

8 a.m. to 5:30 p.m., February 12, 2010.

ADDRESSES: The meeting will be held at the Crowne Plaza Hampton Marina Hotel, 700 Settlers Landing Road, Hampton, VA 23669.

FOR FURTHER INFORMATION CONTACT: Master Chief Steven A. Hady, Designated Federal Officer, MLDC, at (703) 602-0838 or (571) 882-0140, 1851 South Bell Street, Suite 532, Arlington, Va. E-mail Steven.Hady@wso.whs.mil.

SUPPLEMENTARY INFORMATION: The purpose the meeting is for the commissioners of the Military Leadership Diversity Commission to continue their efforts to address congressional concerns as outlined in the commission charter.

Agenda

February 10, 2010 Administrative Working Meeting (Closed to the Public)

7:30 p.m.-8:30 p.m.

DFO opens meeting;

Discussion led by DFO on committee process management;

DFO adjourns the meeting.

February 11, 2010

8 a.m.-12 p.m.

DFO opens the meeting;

Commission Chairman opening remarks;

ADM John C. Harvey, Jr., Commander, U.S. Fleet Forces Command, addresses the MLDC;

Open discussion on legal implications;

Open discussion on career development: Branching and Assignments.

12 p.m.

DFO recesses the meeting.

1 p.m.-5:30 p.m.

DFO opens meeting;

Open discussion on career development: Diversity Management and Training;

Open discussion on Promotion;

Open discussion on Retention;

Commission Chairman closing remarks.

5:30 p.m.

DFO adjourns the meeting.

February 12, 2010

8 a.m.-12 p.m.

DFO opens the meeting;

Commission Chairman opening remarks;

Briefings from the Office of the Secretary of Defense (OSD) and Service representatives from organizations responsible for Implementation and Accountability;

General George W. Casey, Jr., Chief of Staff of the U.S. Army, addresses the MLDC.

12 p.m.

DFO recesses the meeting.

1 p.m.-5:30 p.m.

Briefings from OSD and Service representatives from organizations responsible for Implementation and Accountability (continued);

Mr. J. T. (Ted) Childs Jr. addresses MLDC;

Briefings from Service representatives from organizations responsible for Implementation and Accountability (continued);

Commission Chairman closing remarks.

5:30 p.m.

DFO adjourns the meeting.

Public's Accessibility to the Meeting

Pursuant to 5 U.S.C. 552b and 41 CFR 102-3.140 through 102-3.165, and the availability of space, the meetings on February 11 and 12, 2010, will be open to the public.

However, pursuant to 41 CFR 3.160(b), the Administrative Working Meeting on February 10, 2010 shall be closed to the public.

Please note that the availability of seating is on a first-come basis.

Written Statements

Pursuant to 41 CFR 102-3.105(j) and 102-3.140, and section 10(a)(3) of the Federal Advisory Committee Act of 1972, the public or interested organizations may submit written statements to the Military Leadership Diversity Commission about its mission and functions. Written statements may be submitted at any time or in response to the stated agenda of a planned meeting of the Military Leadership Diversity Commission.

All written statements shall be submitted to the Designated Federal Officer for the Military Leadership Diversity Commission (see FOR FURTHER INFORMATION CONTACT), and this individual will ensure that the written statements are provided to the membership for their consideration. Contact information for the Designated Federal Officer can be obtained from the GSA's FACA Database— https://www.fido.gov/facadatabase/public.asp.

Statements being submitted in response to the agenda mentioned in this notice must be received by the Designated Federal Officer at least five calendar days prior the meeting which is the subject of this notice. Written statements received after this date may not be provided to or considered by the Military Leadership Diversity Commission until its next meeting.

The Designated Federal Officer will review all timely submissions with the Military Leadership Diversity Commission Chairperson and ensure they are provided to all members of the Military Leadership Diversity Commission before the meeting that is the subject of this notice.

Dated: January 8, 2010.
Mitchell S. Bryman,
Alternate OSD Federal Register Liaison Officer, Department of Defense.

[FR Doc. 2010-472 Filed 1-13-10; 8:45 am]

BILLING CODE 5001-06-P